NUCLEAR REGULATORY COMMISSION

[Docket No. 50-440; NRC-2023-0136]

Energy Harbor Corp.; Energy Harbor Generation LLC.; Energy Harbor Nuclear Corp.; Perry Nuclear Power Plant, Unit 1

AGENCY: Nuclear Regulatory Commission.

ACTION: License renewal application; receipt.

SUMMARY: The U.S. Nuclear Regulatory Commission (NRC) has received an application for the renewal of Facility Operating License No. NPF-58, which authorizes Energy Harbor Nuclear Corp. (Energy Harbor or the applicant), doing business as Energy Harbor Nuclear Generation LLC., to operate Perry Nuclear Power Plant (PNPP), Unit 1. The renewed license would authorize the applicant to operate PNPP for an additional 20 years beyond the period specified in the current license. The current operating license for PNPP expires November 7, 2026.

DATES: The license renewal application referenced in this document was available as of July 12, 2023.

ADDRESSES: Please refer to Docket ID NRC-2023-0136 when contacting the NRC about the availability of information regarding this document. You may obtain publicly available information related to this document using any of the following methods:

• Federal Rulemaking Website: Go to https://www.regulations.gov and search for Docket ID NRC-2023-0136. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The Perry Nuclear Power Plant, Unit 1, Docket No. 50-440, License Number NPF-58, License Renewal Application for the Perry Nuclear Power Plant, is available in ADAMS under Accession No. ML23184A081.

• Public Library: A copy of the license renewal application for PNPP can be accessed at the following public library: Perry Public Library, 3753 Main St., Perry, OH 44081 and at the Madison Public Library, 6111 Middle Ridge Rd., Madison, OH 44057.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Vaughn Thomas, Office of Nuclear Reactor Regulation, U.S. Nuclear Regulatory Commission, Washington, DC 20555-0001; telephone: 301-415-5897; email: Vaughn.Thomas@nrc.gov.

SUPPLEMENTARY INFORMATION: The NRC has received an application from PNPP, dated July 3, 2023, filed pursuant to Section 103 of the Atomic Energy Act of 1954, as amended, and part 54 of title 10 of the Code of Federal Regulations, “Requirements for Renewal of Operating Licenses for Nuclear Power Plants,” to renew the operating license for PNPP. Renewal of the license would authorize the applicant to operate the facility for an additional 20-year period beyond the period specified in the current operating license. The current operating license for PNPP expires November 7, 2026. The PNPP is a Boiling Water Reactor located in Perry, Ohio. The acceptability of the tendered application for docketing, and other matters, including an opportunity to request a hearing, will be the subject of subsequent Federal Register notices.

Dated: August 3, 2023.
For the Nuclear Regulatory Commission.
Lauren K. Gibson,
Chief, License Renewal Projects Branch, Division of New and Renewed Licenses, Office of Nuclear Reactor Regulation.

[FR Doc. 2023-17006 Filed 8-8-23; 8:45 am]

BILLING CODE 7590-01-P